DEPARTMENT OF DEFENSE

Department of the Air Force

Proposed Collection; Comment Request

AGENCY: Headquarters Air Force Personnel Center, DoD

ACTION: Notice.

In compliance with Section 3506(c)(2)(A) of the Paperwork Reduction Act of 1995, the Community College of the Air Force announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information collection; (c) ways to enhance the quality, utility, and clarity of the information to be collected; and (d) ways to minimize the burden of the information collection on respondents, including the use of automated collection techniques or other forms of information technology.

DATES: Consideration will be given to all comments received by June 24, 2005.

ADDRESSES: Written comments and recommendations on the proposed information collection should be sent to the Plans and Research Division, Community College of the Air Force, CCAF/DFI, 130 W. Maxwell Blvd., Maxwell AFB, AL 36112-6613.

FOR FURTHER INFORMATION CONTACT: To request more information on this proposed information collection or to obtain a copy of the proposed and associated collection instruments, please write to above address, or call the Community College of the Air Force Institutional Effectiveness Divisions at (334) 953-2703.

Title and OMB Number: Community College of the Air Force Alumni Survey, OMB Number 0701-0136.

Needs and Uses: The information collection requirement is necessary to determine how effectively the institution is meeting its mission and also identify areas needing improvement. Survey results will provide data on the usefulness and acceptance of the Community College of the Air Force degree in the civilian sector. Documenting the institution's effectiveness is also required to maintain the Community College of the Air Force's regional accreditation.

Affected Public: Separated and retired Community College of the Air Force graduates

Annual Burden Hours: 133.

Number of Respondents: 400.

Responses per Respondent: 1.

Average Burden per Response: 20 Minutes.

Frequency: Biennial.

SUPPLEMENTARY INFORMATION:

Summary of Information Collection

Respondents will be separated and retired Community College of the Air Force graduates. Approximately 2,000 Community College of the Air Force graduates will be surveyed biennially to determine the effectiveness of the institution and the usefulness of the Community College of the Air Force degree in the civilian sector. A notification letter will be mailed directly to respondents' home addresses inviting them to complete the Alumni Survey on the Community College of the Air Force's Internet homepage. The survey will take about 20 minutes to complete, and we expect to have about 400 responses. Survey results will be complied and evaluated at the Community College of the Air Force Administrative Center at Maxwell AFB, Alabama. While results will be used primarily in-house to make program improvements, findings may be publicized in the Air Force and civilian education communities.

Dated: April 8, 2005.
Patricia L. Toppings,
Alternate OSD Federal Register Liaison Officer, Department of Defense.

[FR Doc. 05-8148 Filed 4-22-05; 8:45 am]

BILLING CODE 5001-06-M